DEPARTMENT OF JUSTICE

Notice of Lodging of Consent Decree Under the Comprehensive Environmental Response, Compensation and Liability Act

Notice is hereby given that on April 16, 2012, a proposed Consent Decree in United States v. James Y. Saporito, Civil Action No. 07-cv-03169, was lodged with the United States District Court for the Northern District of Illinois, Eastern Division.

In this action, the United States sought on behalf of the United States Environmental Protection Agency recovery of response costs incurred in conducting removal activities resulting from the actual or threatened releases of hazardous substances at the Crescent Plating Works Superfund Site in Chicago, Illinois, pursuant to Section 107 of the Comprehensive Environmental Response, Compensation and Liability Act, 42 U.S.C. § 9607. The Consent Decree resolves the claims between the United States and James Y. Saporito (“Settling Defendant”) for the amount of $40,000, based upon the Settling Defendant's ability to pay.

The Department of Justice will receive comments relating to this Consent Decree for a period of thirty (30) days from the date of this publication. Comments should be addressed to the Assistant Attorney General, Environment and Natural Resources Division, and either emailed to pubcomment-ees.enrd@usdoj.gov or mailed to P.O. Box 7611, U.S. Department of Justice, Washington, DC 20044-7611, and should refer to United States v. James Y. Saporito, D.J. Ref. 90-11-3-08304/1.

The Consent Decree may be examined at the U.S. EPA Region 5, 77 W. Jackson Blvd., Chicago, IL 60604. During the public comment period, the Consent Decree may also be examined on the following Department of Justice Web site, http://www.usdoj.gov/enrd/Consent_ Decrees.html. A copy of the Consent Decree may also be obtained by mail from the Consent Decree Library, U.S. Department of Justice, P.O. Box 7611, Washington, DC 20044-7611 or by faxing or emailing a request to “Consent Decree Copy” (EESCDCopy.ENRD@usdoj.gov), fax number (202) 514-0097, phone confirmation number (202) 514-5271. If requesting a copy from the Consent Decree Library, please enclose a check in the amount of $7.00 (25 cents per page reproduction cost) payable to the U.S. Treasury or, if by email or fax, forward a check in that amount to the Consent Decree Library at the address given above.

Karen Dworkin,
Assistant Chief, Environmental Enforcement Section, Environment and Natural Resources Division, United States Department of Justice.

[FR Doc. 2012-10024 Filed 4-25-12; 8:45 am]

BILLING CODE 4410-15-P